DEPARTMENT OF THE TREASURY

Internal Revenue Service

26 CFR Part 1

[REG-133446-03]

RIN 1545-BC37

Guidance on Passive Foreign Investment Company (PFIC) Purging Elections; Hearing Cancellation

AGENCY: Internal Revenue Service (IRS), Treasury.

ACTION: Cancellation of notice of public hearing.

SUMMARY: This document provides notice of cancellation of a public hearing on a notice of proposed rulemaking by cross-reference to temporary regulations, notice of proposed rulemaking, and notice of public hearing providing certain elections for taxpayers, who in limited circumstances, continue to be subject to the excess distribution regime of section 1291 even though the foreign corporation in which they own stock is no longer treated as a PFIC under section1297(e).

DATES: The public hearing originally scheduled for Wednesday, March 22, 2006, at 10 a.m., is cancelled.

FOR FURTHER INFORMATION CONTACT: Richard A. Hurst of the Publications and Regulations Branch, Legal Processing Division, Associate Chief Counsel, (Procedure and Administration) at Richard.A.Hurst@irscounsel.treas.gov or (202) 622-7180 (not a toll-free number).

SUPPLEMENTARY INFORMATION: A notice of proposed rulemaking by cross-reference to temporary regulations, notice of proposed rulemaking, and notice of public hearing that appeared in the Federal Register on Thursday, December 8, 2005, (70 FR 72952), announced that a public hearing was scheduled for March 22, 2006 at 10 a.m., in the IRS Auditorium, Internal Revenue Service Building, 1111 Constitution Avenue, NW., Washington, DC. The subject of the public hearing is proposed regulations under section 1291 of the Internal Revenue Code. The public comment period for these proposed regulations expired on March 8, 2006.

A notice of proposed rulemaking by cross-reference to temporary regulations, notice of proposed rulemaking, and notice of public hearing, instructed those interested in testifying at the public hearing to submit a request to speak and an outline of the topics to be addressed. As of March 8, 2006, no one has requested to speak. Therefore, the public hearing scheduled for March 22, 2006, is cancelled.

Guy R. Traynor,
Chief, Publications and Regulations Branch, Legal Processing Division, Associate Chief Counsel (Procedure and Administration).

[FR Doc. 06-2533 Filed 3-15-06; 8:45 am]

BILLING CODE 4830-01-P